DEPARTMENT OF COMMERCE

National Oceanic and Atmospheric Administration

[I.D. 072601A]

Proposed Information Collection; Comment Request; Marine Fisheries Initiative (MARFIN)

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 1, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Ellie Francisco Roche, F/SERX2, Room 201, 9721 Executive Center Drive North, St. Petersburg, FL 33702-2439 (phone 727-570-5324).

SUPPLEMENTARY INFORMATION:

I. Abstract

MARFIN is a competitive Federal assistance program that makes funds available to assist persons in carrying out research and development projects that will help to optimize the use of a U.S. Gulf of Mexico fishery involving the U.S. commercial or recreational fishermen. Examples of topics are harvesting methods, economic analyses, processing methods, fish stock assessment, and fish stock enhancement. A person seeking assistance must submit an application. Successful applicants must submit semi-annual and final reports.

II. Method of Collection

A MARFIN-specific project summary and budget form is used. All other requirements follow standard Federal grant application procedures and forms. Paper documentation is used.

III. Data

OMB Number: OMB Number: 0648-0175.

Form Number: None.

Type of Review: Regular submission.

Affected Public: Not-for-profit institutions, business or other for-profit organizations, individuals, and state, local, or tribal government.

Estimated Number of Respondents: 60.

Estimated Time Per Response: 4 hours for agency-unique application requirements, and 1 hour for a semi-annual performance report or a final report.

Estimated Total Annual Burden Hours: 285.

Estimated Total Annual Cost to Public: $300.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 25, 2001.
Madeleine Clayton,
Departmental Paperwork Clearance Officer, Office of the Chief Information Officer.

[FR Doc. 01-19220 Filed 8-1-01; 8:45 am]

BILLING CODE 3510-22-S